DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of May 14 through May 18, 2007.

In order for an affirmative determination to be made for workers of a primary firm and a certification issued regarding eligibility to apply for worker adjustment assistance, each of the group eligibility requirements of Section 222(a) of the Act must be met.

I. Section (a)(2)(A) all of the following must be satisfied:

A. a significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. a significant number or proportion of the workers in such workers' firm, or an appropriate subdivision of the firm, have become totally or partially separated, or are threatened to become totally or partially separated;

B. there has been a shift in production by such workers' firm or subdivision to a foreign country of articles like or directly competitive with articles which are produced by such firm or subdivision; and

C. One of the following must be satisfied:

1. the country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) either—

(A) the workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations For Worker Adjustment Assistance

The following certifications have been issued. The date following the company name and location of each determination references the impact date for all workers of such determination.

The following certifications have been issued. The requirements of Section 222(a)(2)(A) (increased imports) of the Trade Act have been met.

NONE

The following certifications have been issued. The requirements of Section 222(a)(2)(B) (shift in production) of the Trade Act have been met.

NONE

The following certifications have been issued. The requirements of Section 222(b) (supplier to a firm whose workers are certified eligible to apply for TAA) of the Trade Act have been met.

TA-W-61,510; Wehadkee Yarn Mills, Headquarters Office, West Point, GA: May 14, 2006

The following certifications have been issued. The requirements of Section 222(b) (downstream producer for a firm whose workers are certified eligible to apply for TAA based on increased imports from or a shift in production to Mexico or Canada) of the Trade Act have been met.

NONE

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-61,125; Jones Apparel Group, Sample and Pattern Makers, New York, NY: April 3, 2006

TA-W-61,125A; Jones Apparel Group, Sample and Pattern Makers, New York, NY: April 3, 2006

TA-W-61,125B; Jones Apparel Group, Sample and Pattern Makers, New York, NY: April 3, 2006

TA-W-61,161; Indalex, Inc., On-Site Leased Workers of Volt, Watsonville, CA: March 20, 2006

TA-W-61,221; Hickory Hardware/Belwith International, a Subsidiary of FKI, PLC, Grandville, MI: April 1, 2006

TA-W-61,285; Metrologic Instruments, Corporate Division, Blackwood, NJ: April 10, 2006

TA-W-61,386; Berkline, LLC, Livingston, TN: April 25, 2006

TA-W-61,410; CGI Circuits, Inc., Taunton, MA: April 20, 2006

TA-W-61,419; Firestone Tube Company, Russellville, AR: April 30, 2006

TA-W-61,452; Commonwealth Home Fashions, Willsboro, NY: May 4, 2006

TA-W-60,891; Cheetah Chassis Corporation, Berwick, PA: January 29, 2006

TA-W-61,226; Delphi Corporation, Auto Holdings Group, Instrument Cluster Plant, Mays Chemicals, Flint, MI: March 30, 2006

TA-W-61,277; Tonawanda Valve, Inc., North Tonawanda, NY: April 5, 2006

TA-W-61,290; Flexible Technologies, Flexible Solutions Division, including On-Site Leased Workers of Employment Solutions, Abbeville, SC: April 10, 2006

TA-W-61,341; Carrier Access Corp., Roanoke, VA: April 19, 2006

TA-W-61,346; Northland Tool Corp., Traverse City, MI: April 17, 2006

TA-W-61,371; Grand Marais Investors, Inc., dba K.B. Cook Incorporated, Traverse City, MI: April 9, 2006

TA-W-61,412; Carlisle Finishing, LLC, Finishing Division, Carlisle, SC: April 27, 2006

TA-W-61,208; GKN Sinter Metals, Inc., Worcester, MA: March 27, 2006

The following certifications have been issued. The requirements of Section 222(a)(2)(B) (shift in production) and Section 246(a)(3)(A)(ii) of the Trade Act have been met.

TA-W-61,219; Collins and Aikman, Automotive Technical Center, Dover, NH: March 28, 2006

TA-W-61,280; Dutailier Virginia, Inc., Martinsville, VA: March 28, 2006

TA-W-61,318; Epic Technologies, Inc., On-Site Leased Workers of Superior Technical Resources, Johnson City, TN: April 16, 2006

TA-W-61,318A; Epic Technologies, Inc., Leased Workers of Superior Tech. Resources, Norwalk, OH: April 16, 2006

TA-W-61,364; CyOptics, Inc., Formerly Apogee Photonics, On-Site Leased Workers of Express Personnel Service, Breingsville, PA: April 23, 2006

TA-W-61,421; Filtrona Richmond, Inc., a subsidiary of Filtrona, PLC, Richmond, VA: April 20, 2006

TA-W-61,435; Sanmina-SCI Corporation, dba Hadco Corporation, Printed Circuit Board Division, Phoenix, AZ: May 1, 2006

TA-W-61,443; Seagate Technology, LLC, Shakopee Division, Shakopee, MN: May 3, 2006

TA-W-61,448; VCST Powertrain Components, Inc., a subsidiary of VCST Inc., Leased Workers of Aerotek & Entech, Chesterfield, MI: May 2, 2006

TA-W-61,475; Plastiflex, Santa Ana, CA: May 8, 2006

TA-W-61,243; Ferro Electronic Material Systems, Niagara Falls, NY: April 3, 2006

TA-W-61,292; Millipore Corporation, Bioscience Division, On-Site Leased Workers From Veritude, Danvers, MA: April 10, 2006

TA-W-61,394; Aavid Thermalloy LLC, Leased Workers of All Staff, Central NH Employment, Laconia, NH: April 24, 2006

The following certifications have been issued. The requirements of Section 222(b) (supplier to a firm whose workers are certified eligible to apply for TAA) and Section 246(a)(3)(A)(ii) of the Trade Act have been met.

TA-W-61,246; Bush Industries, Inc., Little Valley Facility, Little Valley, NY: April 2, 2006

TA-W-61,253; Keystone Powered Metal Co., Columbus, OH: April 3, 2006

TA-W-61,469; Southern Tool Manufacturing Co., Inc., Winston-Salem, NC: May 7, 2006

TA-W-61,510; Wehadkee Yarn Mills, Headquarters Office, West Point, GA: May 14, 2006

The following certifications have been issued. The requirements of Section 222(b) (downstream producer for a firm whose workers are certified eligible to apply for TAA based on increased imports from or a shift in production to Mexico or Canada) and Section 246(a)(3)(A)(ii) of the Trade Act have been met.

NONE

Negative Determinations For Alternative Trade Adjustment Assistance

In the following cases, it has been determined that the requirements of 246(a)(3)(A)(ii) have not been met for the reasons specified.

The Department has determined that criterion (1) of Section 246 has not been met. Workers at the firm are 50 years of age or older.

TA-W-61,510; Wehadkee Yarn Mills, Headquarters Office, West Point, GA

The Department has determined that criterion (2) of Section 246 has not been met. Workers at the firm possess skills that are easily transferable.

NONE

The Department has determined that criterion (3) of Section 246 has not been met. Competition conditions within the workers' industry are not adverse.

NONE

Negative Determinations For Worker Adjustment Assistance And Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-61,385; The Nielsen Company, Formerly Known as A.C. Nielsen Co., Fond du Lac, WI.

The investigation revealed that criteria (a)(2)(A)(I.B.) (Sales or production, or both, did not decline) and (a)(2)(B)(II.B.) (shift in production to a foreign country) have not been met.

NONE

The investigation revealed that criteria (a)(2)(A)(I.C.) (increased imports) and (a)(2)(B)(II.B.) (shift in production to a foreign country) have not been met.

TA-W-60,908; Georgia Pacific, Consumer Products Division, Muskogee, OK.

TA-W-60,958; Sekely Industries, Inc., On-Site Leased Workers of Staffright, Bartech, Alliance Staffing, Salem, OH.

TA-W-61,086; Delta Consolidated, Inc., Danaher Tool Group Division, Raleigh, NC.

TA-W-61,101; Ameridrives International, Inc., Erie, PA.

TA-W-61,150; Boise Cascade, LLC, Paper Division, Salem, OR.

TA-W-61,164; Intel Corporation, Fab 7 Test Factory, Rio Rancho, NM.

TA-W-61,172; Keystone Weaving Mills, Inc., York, PA.

TA-W-61,223; Waterbury Buckle Co., A Division of Illinois Tool Works, Inc., Waterbury, CT.

TA-W-61,284; Continental Structural Plastics, Petoskey, MI.

TA-W-61,290A; Flexible Technologies, Heat Solutions Division, Abbeville, SC.

TA-W-61,338; Willow Hill Industries, LLC, Willoughby, OH.

TA-W-61,322; Oregon Cutting Systems Group, a wholly owned subsidiary of Blount, Inc., Warehouse, Clackamas, OR.

TA-W-61,355; Texas Instruments, Inc., Silicon Technology Development, Dallas, TX.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

NONE

The workers' firm does not produce an article as required for certification under Section 222 of the Trade Act of 1974.

TA-W-61,268; Hewlett Packard Company, Technology Solutions Group, Global Mission Critical Solution, Austin, TX.

TA-W-61,342; APL Information Services, LTD, a subdivision of APL Limited, Oakland, CA.

TA-W-61,352; SSA Cooper, Georgetown, SC.

TA-W-61,445; United Airlines, Inc., Sales Support Operation Center, Elk Grove Village, IL.

TA-W-61,482; Avon Products, Inc., Avon National Contact Center, Springdale, OH.

TA-W-61,502; Digitron Packaging, Inc., Redford, MI.

The investigation revealed that criteria of Section 222(b)(2) has not been met. The workers' firm (or subdivision) is not a supplier to or a downstream producer for a firm whose workers were certified eligible to apply for TAA.

NONE

I hereby certify that the aforementioned determinations were issued during the period of May 14 through May 18, 2007. Copies of these determinations are available for inspection in Room C-5311, U.S. Department of Labor, 200 Constitution Avenue, NW., Washington, DC 20210 during normal business hours or will be mailed to persons who write to the above address.

Dated: May 23, 2007.
Ralph DiBattista,
Director, Division of Trade Adjustment Assistance.

[FR Doc. E7-10304 Filed 5-29-07; 8:45 am]

BILLING CODE 4510-FN-P